DEPARTMENT OF COMMERCE

Bureau of the Census

Census Advisory Committee of Professional Associations

AGENCY: Bureau of the Census, Department of Commerce.

ACTION: Notice of public meeting.

SUMMARY: The Bureau of the Census (U.S. Census Bureau) is giving notice of a meeting of the Census Advisory Committee of Professional Associations (CACPA). The Committee will address policy, research, and technical issues related to 2010 Decennial Census Programs. The Committee also will discuss several economic initiatives, statistical and demographic program topics, as well as issues pertaining to 2010 Census communications. Last minute changes to the agenda are possible, which could prevent giving advance public notice of schedule adjustments.

DATES: October 8-9, 2009. On October 8, the meeting will begin at approximately 8:30 a.m. and adjourn at approximately 5:15 p.m. On October 9, the meeting will begin at approximately 8:30 a.m. and adjourn at approximately 12:15 p.m.

ADDRESSES: The meeting will be held at the U.S. Census Bureau, 4600 Silver Hill Road, Suitland, Maryland 20746.

FOR FURTHER INFORMATION CONTACT: Jeri Green, Committee Liaison Officer, Department of Commerce, U.S. Census Bureau, Room 8H182, 4600 Silver Hill Road, Washington, DC 20233; telephone 301-763-6590. For TTY callers, please use the Federal Relay Service 1-800-877-8339.

SUPPLEMENTARY INFORMATION: CACPA is composed of 36 members, appointed by the presidents of the American Economic Association, the American Statistical Association, the Population Association of America, and the Chairperson of the Board of the American Marketing Association in conjunction with the Director, U.S. Census Bureau. The Committee addresses Census Bureau programs and activities related to each respective association's area of expertise. The Committee has been established in accordance with the Federal Advisory Committee Act (Title 5, United States Code, Appendix 2, section 10).

The meeting is open to the public, and a brief period is set aside for public comments and questions. Persons with extensive questions or statements must submit them in writing at least three days before the meeting to the Committee Liaison Officer named above. Seating is available to the public on a first-come, first-served basis.

This meeting is physically accessible to people with disabilities. Requests for sign language interpretation or other auxiliary aids should also be directed to the Committee Liaison Officer as soon as known, and preferably two weeks prior to the meeting.

Due to increased security and for access to the meeting, please call 301-763-3231 upon arrival at the Census Bureau on the day of the meeting. A photo ID must be presented in order to receive your visitor's badge. Visitors are not allowed beyond the first floor.

Dated: August 26, 2009.
Robert M. Groves,
Director, Bureau of the Census.

[FR Doc. E9-21082 Filed 8-31-09; 8:45 am]

BILLING CODE 3510-07-P